DEPARTMENT OF THE TREASURY

Internal Revenue Service

Open Meeting of the Taxpayer Advocacy Panel

AGENCY: Internal Revenue Service (IRS), Treasury.

ACTION: Notice of information gathering meeting.

SUMMARY: An open meeting of the Taxpayer Advocacy Panel with the Internal Revenue Service for strategic planning. The Internal Revenue Service is seeking the Taxpayer Advocacy Panel's input for this project.

DATES: The meeting will be held Thursday, June 22, 2017.

FOR FURTHER INFORMATION CONTACT: Gretchen Swayzer at 1-888-912-1227 or 469-801-0769.

SUPPLEMENTARY INFORMATION: Notice is hereby given pursuant to Section 10(a)(2) of the Federal Advisory Committee Act, 5 U.S.C. App. (1988) that a meeting of the Taxpayer Advocacy Panel Committee will be held Thursday, June 22, 2017, at 1:00 p.m. Eastern Time via teleconference. The public is invited to make oral comments or submit written statements for consideration. Due to limited conference lines, notification of intent to participate must be made with Gretchen Swayzer. For more information please contact: Gretchen Swayzer at 1-888-912-1227 or 469-801-0769, Taxpayer Advocate Service, 4050 Alpha Rd., Farmers Branch, TX 75244, or contact us at the Web site: http://www.improveirs.org.

The agenda will include a discussion on various special topics with IRS processes.

Dated: May 12, 2017.
Antoinette Ross,
Acting Director, Taxpayer Advocacy Panel.

[FR Doc. 2017-10118 Filed 5-18-17; 8:45 am]

BILLING CODE 4830-01-P